DEPARTMENT OF COMMERCE

National Oceanic and Atmospheric Administration

50 CFR Part 648

[I.D. 021104B]

Fisheries of the Northeastern United States; Essential Fish Habitat (EFH) Components of Fishery Management Plans (FMPs) for Northeast Multispecies, Atlantic Sea Scallop, Monkfish, Herring, Skates, Atlantic Salmon and Red Crab Fisheries 5-year Review; Scoping Process

AGENCY: National Marine Fisheries Service (NMFS), National Oceanic and Atmospheric Administration (NOAA), Commerce.

ACTION: Notice of intent to prepare a programmatic Environmental Impact Statement (EIS); notice of initiation of scoping process; request for comments.

SUMMARY: The New England Fishery Management Council (Council) in cooperation with NMFS announces its intent to prepare a programmatic EIS and Omnibus Amendments to the FMPs for Northeast Multispecies, Atlantic Sea Scallop, Monkfish, Herring, Skates, Atlantic Salmon and Red Crab. The Amendments (Omnibus) will review the EFH components of all the Council's FMPs, identify and consider new Habitat Areas of Particular Concern (HAPCs), consider Dedicated Habitat Research Areas (DHRA), integrate alternatives to minimize any adverse effects of fishing on EFH for all species managed by the Council, and analyze the impacts of any proposed management measures. The Council is also formally initiating a public process to determine the scope of alternatives to be addressed in the Omnibus and EIS. The purpose of this notification is to alert the interested public of the commencement of the scoping process and to provide for public participation in compliance with environmental documentation requirements.

DATES: The Council will discuss and take scoping comments at public meetings in March 2004. For specific dates and times of the scoping meetings, see SUPPLEMENTARY INFORMATION. E-mail and written scoping comments must be received on or before 5 pm EST, April 30, 2004.

ADDRESSES: The Council will take scoping comments at public meetings in Maine, Massachusetts, Connecticut and North Carolina. For specific locations, see SUPPLEMENTARY INFORMATION. The mailing address for submitting paper, disk, or CD-ROM comments and for requests for copies of the scoping document and other information is: Paul J. Howard, Executive Director, New England Fishery Management Council, 50 Water Street, Mill 2, Newburyport, MA 01950, telephone (978) 465-0492. Written comments should be marked “Comments on Omnibus EFH Amendment”. Comments may also be sent via facsimile (fax) to (978) 465-3116. Comments on this notice of intent may be submitted by e-mail. The mailbox address for providing e-mail comments is comments@nefmc.org. For e-mail comments “Comments on Omnibus EFH Amendment” should be used in the subject line. The scoping document is accessible electronically via the Internet at http://www.nefmc.org.

FOR FURTHER INFORMATION CONTACT: Paul J. Howard, Executive Director, New England Fishery Management Council (978) 465-0492.

SUPPLEMENTARY INFORMATION:

Background

The Fishery Conservation and Management Act of 1976, since renamed the Magnuson-Stevens Fishery Conservation and Management Act (Magnuson-Stevens Act), established eight Regional Fishery Management Councils (Councils) that manage the living marine resources within the U.S. Exclusive Economic Zone (between 3 and 200 nautical miles offshore) . The 18-member New England Fishery Management Council's authority extends from Maine to Connecticut and, in some cases, to the Mid-Atlantic because of the range of the managed species. The 1996 amendments to the Magnuson-Stevens Act, known as the Sustainable Fisheries Act (SFA), changed the focus of the Magnuson-Stevens Act by emphasizing the importance of habitat protection to healthy fisheries and by strengthening the ability of NMFS and the Councils to better protect, conserve, and enhance the habitat for all species managed by the Council. This habitat is termed EFH, and is broadly defined to include “those waters and substrate necessary to fish for spawning, breeding, feeding, or growth to maturity.”

The Council's Omnibus EFH Amendment of 1998 recognized that all species are dependent on the quantity and quality of their habitat and, accordingly, the Council approved a policy to promote and encourage the conservation, restoration, and enhancement of the habitat upon which living marine resources depend. This policy is supported by four policy objectives, which are to:

1. Maintain and enhance the current quantity and quality of habitats supporting harvested species, including their prey base;

2. Restore and rehabilitate fish habitats that have already been degraded;

3. Create and develop fish habitats where increased availability of fishery resources will benefit society; and

4. Modify fishing methods and create incentives to reduce the impacts on habitat associated with fishing.

These objectives are based on ensuring the sustainability of harvested species and optimizing the societal benefits of our marine resources. The Council assumed an active role in the protection and enhancement of habitats important to marine and anadromous fish. In support of the Council's habitat policy, the management objectives of the Omnibus EFH Amendment of 1998 were:

1. To the maximum extent possible, to identify and describe all EFH for those species of finfish and mollusks managed by the Council;

2. To identify all major threats (fishing and non-fishing related) to the EFH of those species managed by the Council; and

3. To identify existing and potential mechanisms to protect, conserve and enhance the EFH of those species managed by the Council, to the extent practicable.

The purpose of the Omnibus EFH Amendment of 1998 was to identify and describe the EFH for all species managed by the Council to better protect, conserve, and enhance this habitat. This was done through the following FMP amendments: Northeast Multispecies (Amendment 11), Atlantic Sea Scallops (Amendment 9), Atlantic Salmon (Amendment 1), and Atlantic Herring (added to FMP later). The 1998 Omnibus EFH Amendment also identified the major threats to EFH from both fishing and non-fishing related activities, as well as conservation and enhancement measures. The Council began implementation of the SFA's EFH requirements based on guidance provided by NMFS on interpreting the mandate and timelines. Amendments to the FMPs managed by the Council were initiated in 1998 and combined in one management action that was termed the “Habitat Omnibus Amendment of 1998.” A Notice of Intent to prepare an EIS to implement the EFH requirements of the SFA and request for scoping was issued February 25, 1998 (63 FR 9500), with comments due no later than March 23, 1998. A public hearing document was reviewed at hearings held in July 1998, and public comments were accepted until July 31, 1998. As a result of the environmental review process, the Council concluded that this action would not have a significant effect on the human environment and, therefore, an Environmental Assessment was prepared rather than an Environmental Impact Statement. The Council approved the final EFH FMP amendments in September 1998 and the Omnibus Amendment and analytical documents were submitted to NMFS on October 7, 1998. The Environmental Assessment prepared for the Omnibus Amendment described the background, purpose, and need for the action, the management action alternatives, and the environmental, social, and economic impacts of the alternatives. This environmental review process led NMFS to conclude that a “Finding of No Significant Impact” for the Omnibus Amendment was appropriate. The Amendments to the FMPs were approved by the Acting Assistant Administrator for Fisheries, acting on behalf of the Secretary of Commerce, on March 3, 1999, and announced in the Federal Register on April 21, 1999 (64 FR 19503).

Purpose (Goals and Objectives)

The primary goals of this action are:

1. To meet the requirements of NMFS' guidelines for implementation of the Magnuson-Stevens Act's EFH. As stated in 67 FR 2343 (01/17/02) and pertaining to § 600.815(a)(10): “Councils and NMFS should periodically review the EFH provisions as warranted based on available information. FMPs should outline the procedures the Council will follow to review and update EFH information. The review of information should include, but not be limited to, evaluating published scientific literature and unpublished scientific reports; soliciting information from interested parties and searching for previously unavailable or inaccessible data. Councils should report on their review of EFH information as part of the annual Stock Assessment and Fishery Evaluation (SAFE) report prepared pursuant to § 600.315(e). A complete review of all EFH information should be conducted as recommended by the Secretary, but at least once every 5 years."

2. To develop a comprehensive EFH Management Plan that will minimize adverse effects of fishing on EFH to the extent practicable, through actions that will apply to all Council-managed FMPs.

Issues Under Consideration

At this time, the Council is seeking comments on a wide range of management measures related to the EFH component of its FMPs and will consider addressing a range of issues. (See § 600.815 for further details on the EFH-related mandatory contents of FMPs.) The measures under consideration include, but are not limited to, the following:

1. Review and update the description and identification of EFH;

2. Review and develop analytical tools used to analyze alternatives to minimize adverse effects of fishing on EFH to the extent practicable;

3. Review and update the non-Magnuson-Stevens Act fishing activities that may adversely affect EFH;

4. Review and update the non-fishing related activities that may adversely affect EFH;

5. Review and update the cumulative impact analysis;

6. Review and update the conservation and enhancement recommendations;

7. Review and update the prey species information;

8. Identify and consider new HAPCs;

9. Review and update research and information needs including the consideration of DHRAs;

10. Integrate alternatives to minimize any adverse effects of fishing on EFH across all FMPs principally managed by the Council by developing a comprehensive EFH Management Plan.

The Council will issue two Requests for Proposals (RFPs) soliciting applications for HAPC and DHRA candidates at the appropriate time during development of the Omnibus Amendment. These RFPs will likely be issued approximately 9-12 months after scoping is initiated so that consideration of HAPC and DHRA proposals is based on current and revised EFH designation approaches.

Scoping Hearings

The Council will discuss and take scoping comments at public meetings as follows:

Friday, March 5, 2004, at noon - Samoset Resort, 220 Warrenton Street, Rockport, ME 04846; telephone: (207) 549-2511; fax: (207) 594-0722;

Wednesday, March 10, 2004, at 7 p.m. - Whaling Museum, 18 Johnny Cake Hill, New Bedford, MA 02740; telephone: (508) 997-0046; fax: (508) 997-0018;

Monday, March 15, 2004, at 7 p.m. - Stonington Office of Public Safety, 173 S. Broad St. (Route 1), Stonington, CT 06378; telephone: (860) 599-7510; fax: (860) 599-7533;

Tuesday, March 16, 2004, at 6:30 p.m. - Shell Island Suites, 2700 North Lumina Avenue, Wrightsville Beach, NC 28480; telephone: (910) 256-8696; fax: (910) 256-0154;

Tuesday, March 23, 2004, at 6 p.m. - Tavern on the Harbor, 30 Western Avenue, Gloucester, MA 01930; telephone: (978) 283-4200; fax: (978) 283-0204.

Special Accommodations

These meetings are accessible to people with physical disabilities. Requests for sign language interpretation or other auxiliary aids should be directed to Paul J. Howard (see ADDRESSES) at least 5 days prior to this meeting date.

Authority: 16 U.S.C. 1801 et seq.

Dated: February 18, 2004.
Bruce C. Morehead,
Acting Director, Office of Sustainable Fisheries, National Marine Fisheries Service.

[FR Doc. 04-4018 Filed 2-23-04; 8:45 am]

BILLING CODE 3510-22-S